DEPARTMENT OF DEFENSE

Department of the Air Force

Notice of Intent To Grant Exclusive Patent Licenses

Pursuant to the provisions of Part 404 of Title 37, Code of Federal Regulations (CFRs), which implements Public Law 96-517, the Department of the Air Force announces its intention to grant PDR, Inc., a company doing business in Foxboro, MA, exclusive licenses in any right, title and interest the Air Force has in U.S. Patent Application Nos. 09/299,928 and 09/300,053, respectively. The first listed invention is entitled “Method and Apparatus for Depositing Thin Films of Group III Nitrides and Other Films and Devices Made Therefrom” with the second invention entitled “Process for the Manufacture of Group III Nitride Targets for Use in Sputtering and Similar Equipment.” Each invention is related to making GaN films and products and both applications were filed in the U.S. Patent and Trademark Office on April 27, 1999.

Each license described above will be granted unless an objection thereto, together with a request for an opportunity to be heard, if desired, is received in writing by the addressee set forth below within 60 days from the date of publication of this Notice. Information concerning the application may be obtained, on request, from the same addressee.

All communications concerning this Notice should be sent to Mr. Randy Heald, Associate General Counsel (Acquisition), SAF/GCQ, 1500 Wilson Blvd., Suite 304, Arlington, VA 22209-2310. Mr. Heald can be reached at 703-588-5091 or by fax at 703-588-8037.

Janet A. Long,
Air Force Federal Register Liaison Officer.

[FR Doc. 00-8864 Filed 4-10-00; 8:45 am]

BILLING CODE 5001-05-P